DEPARTMENT OF ENERGY

Agency Request for Comments on Draft Solicitation for Advanced Nuclear Energy Projects

AGENCY: U.S. Department of Energy.

ACTION: Notice of availability and request for comments.

SUMMARY: The Loan Programs Office (LPO) of the Department of Energy (DOE) announces availability of a draft of a potential future solicitation for Federal Loan Guarantees for Advanced Nuclear Energy Projects. LPO invites comments regarding the draft of the potential future solicitation.

DATES: Comments regarding the draft of the potential future solicitation must be received on or before November 3, 2014.

ADDRESSES: Written comments may be sent to Peter W. Davidson, Executive Director, Loan Programs Office, U.S. Department of Energy, 1000 Independence Avenue SW., Washington, DC 20585. The draft solicitation is available on LPO's Web site at http://www.lgprogram.energy.gov/.

FOR FURTHER INFORMATION CONTACT: Peter W. Davidson, LPO.NuclearSolicitation.Comments@hq.doe.gov.

SUPPLEMENTARY INFORMATION: DOE is considering a potential future solicitation for Federal Loan Guarantees for Advanced Nuclear Energy Projects. Should DOE choose to proceed with such a solicitation, applicants would be invited to apply for loan guarantees from DOE to finance projects and facilities located in the United States that employ innovative advanced nuclear energy (“Advanced Nuclear Energy Projects”). DOE may make up to Twelve Billion Six Hundred Million Dollars ($12,600,000,000) in loan guarantee authority available under the proposed solicitation for Advanced Nuclear Energy Projects. Of that amount, $2,000,000,000 is available exclusively for advanced nuclear facilities for the “front-end” of the nuclear fuel cycle. The remaining $10,600,000,000 is available for nuclear power facilities.

LPO is announcing a draft of a potential future solicitation for Federal Loan Guarantees for Advanced Nuclear Energy Projects. LPO invites comments regarding the draft of the potential future solicitation.

Statutory Authority: Title XVII of the Energy Policy Act of 2005 (42 U.S.C. 16511 et seq.).

Issued in Washington, DC, on September 29, 2014.
April G. Stephenson,
Chief Operating Officer, Loan Programs Office.

[FR Doc. 2014-23608 Filed 10-2-14; 8:45 am]

BILLING CODE 6450-01-P